DEPARTMENT OF ENERGY

Federal Energy Regulatory Commission

Combined Notice of Filings #2

Take notice that the Commission received the following electric corporate filings:

Docket Numbers: EC18-102-000.

Applicants: Duke Energy Indiana, LLC, AEP Indiana Michigan Transmission Company, Inc.

Description: Application for Authorization Under Section 203 of the Federal Power Act of Duke Energy Indiana, LLC, et al.

Filed Date: 6/14/18.

Accession Number: 20180614-5097.

Comments Due: 5 p.m. ET 7/5/18.

Take notice that the Commission received the following exempt wholesale generator filings:

Docket Numbers: EG18-101-000.

Applicants: Torrecillas Wind Energy, LLC.

Description: Notice of Self-Certification of Exempt Wholesale Generator Status of Torrecillas Wind Energy, LLC.

Filed Date: 6/14/18.

Accession Number: 20180614-5147.

Comments Due: 5 p.m. ET 7/5/18.

Take notice that the Commission received the following electric rate filings:

Docket Numbers: ER18-1420-001.

Applicants: California Independent System Operator Corporation.

Description: Tariff Amendment: 2018-06-14 Amendment to Certificate of Concurrence for ARES Nevada UFA Metadata to be effective 3/13/2018.

Filed Date: 6/14/18.

Accession Number: 20180614-5082.

Comments Due: 5 p.m. ET 6/25/18.

Docket Numbers: ER18-1771-000.

Applicants: Langdon Renewables, LLC.

Description: Amendment to June 11, 2017 Langdon Renewables, LLC tariff filing.

Filed Date: 6/14/18.

Accession Number: 20180614-5081.

Comments Due: 5 p.m. ET 7/2/18.

Docket Numbers: ER18-1786-000.

Applicants: Northern States Power Company, a Wisconsin corporation Northern States Power Company, a Minnesota Corporation.

Description: § 205(d) Rate Filing: 20180614_Benson IA 205 to be effective 6/29/2018.

Filed Date: 6/14/18.

Accession Number: 20180614-5058.

Comments Due: 5 p.m. ET 7/5/18.

Take notice that the Commission received the following foreign utility company status filings:

Docket Numbers: FC18-6-000.

Applicants: Solfuture Gestión, S.L.U.

Description: Notification of Self-Certification of Foreign Utility Company Status of I Solfuture Gestion, S.L.U.

Filed Date: 6/13/18.

Accession Number: 20180613-5163.

Comments Due: 5 p.m. ET 7/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2018.
Kimberly D. Bose,
Secretary.

[FR Doc. 2018-13197 Filed 6-19-18; 8:45 am]

BILLING CODE 6717-01-P